DEPARTMENT OF JUSTICE

Notice of Lodging of Settlement Agreement Under the Comprehensive Environmental Response, Compensation, and Liability Act

Notice is hereby given that on March 4, 2008, the United States moved to reopen United States v. Ruetgers Organics Corporation (fka Ruetgers-Nease Corporation), No. 4-96-2128, in order to lodge a proposed “Agreement and Order Regarding Modification of the Consent Decree to Include Reimbursement for Past and Future Oversight Costs” (“Modification Agreement”). The Modification Agreement amends the Consent Decree (“1997 Consent Decree”) lodged on December 6, 1996, in the United States District Court for the Middle District of Pennsylvania and entered on January 2, 1997. The Modification Agreement is intended only to replace the provisions specifically referred to, essentially to include oversight costs within the definition of response costs. All other provisions of the 1997 Consent Decree remain in force.

The 1997 Consent Decree resolved the claims of the United States under Sections 106 and 107 of the Comprehensive Environmental Response, Compensation and Liability Act, as amended (“CERCLA”), 42 U.S.C. 9606 and 9607, for past response costs and certain response actions at the Centre County Kepone Superfund Site in Centre County, Pennsylvania. The Modification Agreement obligates the Settling Defendant to reimburse the United States $628,164.79 for additional United States' past response costs and to agree to reimbursement of future costs.

The Department of Justice will receive for a period of thirty (30) days from the date of this publication comments relating to the proposed Modification Agreement. Comments should be addressed to the Assistant Attorney General, Environment and Natural Resources Division, and either e-mailed to pubcomment-ees.enrd@usdoj.gov or mailed to P.O. Box 7611, U.S. Department of Justice, Washington, DC 20044-7611, and should refer to United States v. Ruetgers Organics Corporation, D.J. Ref. 90-11-3-1436.

The Modification Agreement may be examined at the Office of the United States Attorney in the Middle District of Pennsylvania at the William J. Nealon Federal Building and Courthouse, 235 N. Washington Ave., Suite 311, Scranton, PA 18503. It may also be examined at U.S. EPA Region III at 1650 Arch Street, Philadelphia, Pennsylvania 19103. During the public comment period, the Modification Agreement may also be examined on the following Department of Justice Web site http://www.usdoj.gov/enrd/Consent_Decrees.html.

A copy of the proposed Modification Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. In requesting a copy from the Consent Decree Library, please enclose a check in the amount of $4.75 (25 cents per page reproduction cost) payable to the “U.S. Treasury” or, if by e-mail or fax, forward a check in that amount to the Consent Decree Library at the stated address.

Robert Brook,
Assistant Section Chief, Environmental Enforcement Section, Environment and Natural Resources Division, U.S. Department of Justice.

[FR Doc. E8-4720 Filed 3-10-08; 8:45 am]

BILLING CODE 4410-15-P